DEPARTMENT OF DEFENSE

Uniformed Services University of the Health Sciences

Sunshine Act Meeting Notice

Agency Holding the Meeting: Uniformed Services University of the Health Sciences

Time and Date: 8 a.m. to 4 p.m. August 4, 2003.

Place: Uniformed Services University of the Health Sciences, Board of Regents Conference Room (D3001), 4301 Jones Bridge Road, Bethesda, MD 20814-4799.

Status: Open—under “Government in the Sunshine Act” (5 U.S.C. 552b(e)(3)).

Matters to be Considered: 8 a.m. Meeting—Board of Regents

(1) Approval of Minutes—May 16, 2003.

(2) Faculty Matters.

(3) Departmental Reports.

(4) Financial Report.

(5) Report—President, USUHS.

(6) Report—Dean, School of Medicine.

(7) Report—Dean, Graduate School of Nursing.

(8) Comments—Chairman, Board of Regents.

(9) New Business.

Contact Person for More Information: Mr. Bobby D. Anderson, Executive Secretary, Board of Regents, (301) 295-3116.

Dated: July 2, 2003.
L.M. Bynum,
Alternate Federal Register Liaison Officer, Department of Defense.

[FR Doc. 03-17246 Filed 7-7-03; 3:21 pm]

BILLING CODE 5001-08-M